FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning the renewal of the Standard Flood Hazard Determination form.

SUPPLEMENTARY INFORMATION: FEMA is seeking to extend the use of the Standard Flood Hazard Determination form, which is required by Title V of the National Flood Insurance Reform Act of 1994. No changes in the information collected will be made. Changes to the form's instructions, to include the purpose of the form, have been made.

Collection of Information

Title: Standard Flood Hazard Determination form.

Type of Information Collection: Extension.

OMB Number: 3067-0264.

Form Numbers: FEMA 81-93 Standard Flood Hazard Determination form.

Abstract: On September 23, 1994, the President signed the Riegle Community Development and Regulatory Improvement Act of 1994. Title V of this Act is the National Flood Insurance Reform Act (NFIRA). Section 528 of the NFIRA requires that FEMA develop a standard hazard determination form for recording the determination of whether a structure is located within an identified Special Flood Hazard Area and whether flood insurance is available. Section 528 of the NFIRA also requires the use of this form by regulated lending institutions, federal agency lenders, the Federal National Mortgage Association, the Federal Home Loan Mortgage Corporation, and the Government National Mortgage Association for any loan made, increased, extended, renewed or purchased by these entities. The form developed to comply with the above requirements is the Standard Flood Hazard Determination form (FEMA form 81-93, dated October 1998). This form will be completed by federally regulated lending institutions when making, increasing, extending, renewing or purchasing each loan for the purpose of documenting the factors considered as to whether flood insurance is required and available. An estimated 20,000,000 such uses are made each year. This number is entirely driven by the volume of mortgage transactions, of which fluctuations in interest rates is a principal factor.

Affected Public: Business or other for-profit, Federal Government.

Estimated Total Annual Burden Hours: Completing the Standard Flood Hazard Determination form is estimated to average approximately 20 minutes per form. An estimated 20,000,000 forms per year, multiplied by 0.33 hours per form, results in an estimated burden of approximately 6,600,000 hours.

Estimated Cost: An estimated 0.33 hour per form multiplied, by 20 million forms per year, multiplied by $29 per hour results in an estimated annualized cost of $191,400,000.

Comments: Written comments are solicited to: (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to: Muriel B. Anderson, Chief, Records Management Section, Program Services and Systems Branch, Facilities Management and Services Division, Administration and Resource Planning Directorate, Federal Emergency Management Agency, 500 C Street, SW., Room 316, Washington, DC 20472.

FOR FURTHER INFORMATION CONTACT: Contact Frederick Sharrocks, Mapping Support Branch Chief, Federal Insurance and Mitigation Administration, 202.646.2796, for additional information. Contact Ms. Anderson at (202) 646-2625 (voice), (202) 646-3347(facsimile), or e-mail address: muriel.anderson@fema.gov for copies of the proposed information collection.

Dated: March 19, 2002.
Virginia A. Akers,
Acting Chief, Program Services and Systems Branch, Facilities Management and Services Division, Administration and Resource Planning Directorate.

[FR Doc. 02-7177 Filed 3-25-02; 8:45 am]

BILLING CODE 6718-01-P